DEPARTMENT OF HEALTH AND HUMAN SERVICES

National Institutes of Health

Center for Scientific Review; Amended Notice of Meeting

Notice is hereby given of a change in the meeting of the Center for Scientific Review Special Emphasis Panel, November 22, 2019, 11:00 a.m. to 5:00 p.m., at the Center for Scientific Review, National Institutes of Health, 6701 Rockledge Drive, Bethesda, MD 20892 which was published in the Federal Register on October 30, 2019, 84 FR 58161.

The meeting format of the Special Emphasis Panel RFA Panel: Tobacco Regulatory Science B, has been changed to a Virtual Assisted Meeting. The meeting date, time and location remain the same. The meeting is closed to the public.

Dated: November 15, 2019.
Ronald J. Livingston, Jr.,
Program Analyst, Office of Federal Advisory Committee Policy.

[FR Doc. 2019-25181 Filed 11-19-19; 8:45 am]

BILLING CODE 4140-01-P